DEPARTMENT OF ENERGY

Federal Energy Regulatory Commission

Combined Notice of Filings #1

Take notice that the Commission received the following electric corporate filings:

Docket Numbers: EC22-78-000.

Applicants: Digihost International Inc., Fortistar North Tonawanda LLC.

Description: Digihost International Inc., et al. submit Response to FERC's September 27, 2022 Deficiency Letter.

Filed Date: 10/6/22.

Accession Number: 20221006-5101.

Comment Date: 5 p.m. ET 10/27/22.

Take notice that the Commission received the following Complaints and Compliance filings in EL Dockets:

Docket Numbers: EL23-3-000; QF01-41-002.

Applicants: Baytown Energy Center, L.P., Baytown Energy Center, LLC.

Description: Baytown Energy Center, LLC submits Petition for Temporary Waiver of Efficiency Standard for Qualifying Cogeneration Facility.

Filed Date: 10/12/22.

Accession Number: 20221012-5187.

Comment Date: 5 p.m. ET 11/2/22.

Docket Numbers: EL23-4-000.

Applicants: Belmont Municipal Light Department, et al. v. Constellation Mystic Power, LLC, and ISO New England, Inc.

Description: Complaint of Belmont Municipal Light Department, et al. v. Constellation Mystic Power, LLC, and ISO New England, Inc.

Filed Date: 10/17/22.

Accession Number: 20221017-5149.

Comment Date: 5 p.m. ET 11/16/22.

Take notice that the Commission received the following electric rate filings:

Docket Numbers: ER21-2968-001.

Applicants: Upper Michigan Energy Resources Corporation.

Description: Midcontinent Independent System Operator, Inc. submits tariff filing per 35.19a(b): Refund Report_Upper Michigan Energy Resources Corporation to be effective N/A.

Filed Date: 10/18/22.

Accession Number: 20221018-5088.

Comment Date: 5 p.m. ET 11/8/22.

Docket Numbers: ER22-2604-001.

Applicants: Lucky Corridor, LLC.

Description: Compliance filing: Compliance Filing to be effective 10/5/2022.

Filed Date: 10/18/22.

Accession Number: 20221018-5102.

Comment Date: 5 p.m. ET 11/8/22.

Docket Numbers: ER22-2662-001.

Applicants: Aron Energy Prepay 14 LLC.

Description: Tariff Amendment: Response to Deficiency Letter to be effective 10/15/2022.

Filed Date: 10/18/22.

Accession Number: 20221018-5080.

Comment Date: 5 p.m. ET 11/8/22.

Docket Numbers: ER22-2663-001.

Applicants: Aron Energy Prepay 15 LLC.

Description: Tariff Amendment: Response to Deficiency Letter to be effective 10/15/2022.

Filed Date: 10/18/22.

Accession Number: 20221018-5082.

Comment Date: 5 p.m. ET 11/8/22.

Docket Numbers: ER22-2664-001.

Applicants: Aron Energy Prepay 16 LLC.

Description: Tariff Amendment: Response to Deficiency Letter to be effective 10/15/2022.

Filed Date: 10/18/22.

Accession Number: 20221018-5084.

Comment Date: 5 p.m. ET 11/8/22.

Docket Numbers: ER23-118-000.

Applicants: American Electric Power Service Corporation.

Description: American Electric Power Service Corporation submits Notice of Termination of Rolling Hills Generating, L.L.C. Interconnection and Operation Agreement.

Filed Date: 10/14/22.

Accession Number: 20221014-5255.

Comment Date: 5 p.m. ET 11/4/22.

Docket Numbers: ER23-119-000.

Applicants: Solar Star California XLI, LLC.

Description: § 205(d) Rate Filing: COC filing to be effective 10/19/2022.

Filed Date: 10/18/22.

Accession Number: 20221018-5057.

Comment Date: 5 p.m. ET 11/8/22.

Docket Numbers: ER23-120-000.

Applicants: Golden Fields Solar I, LLC.

Description: § 205(d) Rate Filing: COC filing to be effective 10/19/2022.

Filed Date: 10/18/22.

Accession Number: 20221018-5060.

Comment Date: 5 p.m. ET 11/8/22.

Docket Numbers: ER23-121-000.

Applicants: Midcontinent Independent System Operator, Inc., Van Ness Feldman LLP.

Description: § 205(d) Rate Filing: Midcontinent Independent System Operator, Inc. submits tariff filing per 35.13(a)(2)(iii): 2022-10-18_MRES tariff revisions to Schedules 7, 8, 9 to be effective 1/1/2023.

Filed Date: 10/18/22.

Accession Number: 20221018-5089.

Comment Date: 5 p.m. ET 11/8/22.

Docket Numbers: ER23-122-000.

Applicants: Florida Power & Light Company.

Description: Tariff Amendment: FPL Notice of Cancellation of Attachment K-2 of the FPL OATT to be effective 1/1/2023.

Filed Date: 10/18/22.

Accession Number: 20221018-5101.

Comment Date: 5 p.m. ET 11/8/22.

Docket Numbers: ER23-123-000.

Applicants: AEP Texas Inc.

Description: § 205(d) Rate Filing: AEPTX-Big Country EC-Golden Spread EC (Wahpekute) FDA to be effective 10/3/2022.

Filed Date: 10/18/22.

Accession Number: 20221018-5114.

Comment Date: 5 p.m. ET 11/8/22.

Docket Numbers: ER23-124-000.

Applicants: AEP Texas Inc.

Description: § 205(d) Rate Filing: AEPTX-BNB Tennyson Solar Generation Interconnection Agreement to be effective 10/3/2022.

Filed Date: 10/18/22.

Accession Number: 20221018-5119.

Comment Date: 5 p.m. ET 11/8/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 18, 2022.
Debbie-Anne A. Reese,
Deputy Secretary.

[FR Doc. 2022-23038 Filed 10-21-22; 8:45 am]

BILLING CODE 6717-01-P